DEPARTMENT OF AGRICULTURE

Forest Service

GMUG Resource Advisory Committee

AGENCY: Forest Service, USDA.

ACTION: Notice of meeting.

SUMMARY: The GMUG RAC will meet in Delta, Colorado. The committee is meeting as authorized under the Secure Rural Schools and Community Self Determination Act (Pub. L. 110-343) and in compliance with the Federal Advisory Committee Act. The purpose of the meeting is to gather the newly appointed Committee members together to elect a Chair, determine operating principles and organize to accept project proposals for Title II funds within Garfield, Mesa, Delta, Gunnison and Montrose Counties, Colorado.

DATES: The meeting will be held June 9, 2010, at 9:30 a.m.

ADDRESSES: The meeting will be held at the Forest Supervisor's Office at 2250 Highway 50, Delta, Colorado in the South Spruce Conference Room. Written comments should be sent to Attn: GMUG RAC, 2250 Highway 50, Delta, CO 81416. Comments may also be sent via e-mail to lloupe@fs.fed.us or via facsimile to Attn: Lee Ann Loupe, RAC Coordinator at 970.874.6698.

All comments, including names and addresses when provided, are placed in the record and are available for public inspection and copying. The public may inspect comments received at http://www.fs.fed.us/r2/gmug/ under “GMUG RAC Information.” Visitors are encouraged to call ahead to Lee Ann Loupe, RAC Coordinator at 970.874.6717 to facilitate entry into the building.

FOR FURTHER INFORMATION CONTACT: Lee Ann Loupe, GMUG RAC Coordinator, 970.874.6717 or e-mail: lloupe@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: The newly appointed Committee members will gather together and meet for the first time, address questions about the roles of members, support of the committee and other pertinent information, elect a chairperson, determine operating principles for the RAC and organize to accept project proposals for Title II funds within Garfield, Mesa, Delta, Gunnison and Montrose Counties, Colorado.

Persons who wish to bring related matters to the attention of the Committee may file written statements with the Committee staff before or after the meeting. Public input sessions will be provided and individuals who made written requests by May 28, 2010 will have the opportunity to address the Committee at those sessions.

Dated: May 11, 2010.
Sherry Hazelhurst,
Deputy Forest Supervisor/GMUG RAC DFO.

[FR Doc. 2010-12152 Filed 5-20-10; 8:45 am]

BILLING CODE 3410-11-M